DEPARTMENT OF TRANSPORTATION

Federal Aviation Administration

14 CFR Part 39

[Docket No. FAA-2006-23936; Directorate Identifier 2005-NM-215-AD; Amendment 39-14590; AD 2006-10-06]

RIN 2120-AA64

Airworthiness Directives; Bombardier Model CL-600-2B19 (Regional Jet Series 100 and 440) Airplanes

AGENCY: Federal Aviation Administration (FAA), Department of Transportation (DOT).

ACTION: Final rule.

SUMMARY: The FAA is adopting a new airworthiness directive (AD) for certain Bombardier Model CL-600-2B19 (Regional Jet Series 100 and 440) airplanes. This AD requires an inspection of the manufacturer's date code on certain electrical relays to identify defective Leach TDH-series electrical relays and replacement of identified relays. This AD results from a report of defective electrical relays affecting emergency equipment. We are issuing this AD to prevent the malfunction of emergency equipment (the passenger oxygen system, the thrust reverse control system, and the auxiliary power unit fire detection, warning, and extinguishing system) during an emergency.

DATES: This AD becomes effective June 16, 2006.

The Director of the Federal Register approved the incorporation by reference of a certain publication listed in the AD as of June 16, 2006.

ADDRESSES: You may examine the AD docket on the Internet at http://dms.dot.gov or in person at the Docket Management Facility, U.S. Department of Transportation, 400 Seventh Street, SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Wing Chan, Aerospace Engineer, Systems and Flight Test Branch, ANE-172, FAA, New York Aircraft Certification Office, 1600 Stewart Avenue, suite 410, Westbury, New York 11590; telephone (516) 228-7311; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-2B19 (Regional Jet Series 100 and 440) airplanes. That NPRM was published in the Federal Register on February 17, 2006 (71 FR 8547). That NPRM proposed to require an inspection of the manufacturer's date code on certain electrical relays to identify defective Leach TDH-series electrical relays and replacement of identified relays.

Comments

We provided the public the opportunity to participate in the development of this AD. We received no comments on the NPRM or on the determination of the cost to the public.

Clarification of Compliance Time Specified in Paragraph (i) of the AD

We have revised paragraph (i) of this AD to clarify that the replacement of identified electrical relays should be done prior to further flight following the inspection required by paragraph (g) of the AD.

Conclusion

We have carefully reviewed the available data and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Cost per airplane | Number of U.S.-registered airplanes | Fleet cost
Inspection of Part A relays | 6 | $65 | $390 | 753 | $293,670
Inspection of Part B relays | 6 | 65 | 390 | 753 | 293,670
Inspection of Part C relays | 2 | 65 | 130 | 753 | 97,890
Inspection of Part D relays | 6 | 65 | 390 | 753 | 293,670
Inspection of Part E relays | 6 | 65 | 390 | 753 | 293,670
Total for inspection of all relays | 26 | 65 | 1,690 | 753 | 1,272,570

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-10-06 Bombardier, Inc. (Formerly Canadair): Amendment 39-14590. Docket No. FAA-2006-23936; Directorate Identifier 2005-NM-215-AD.

Effective Date

(a) This AD becomes effective June 16, 2006.

Affected ADs

(b) None.

Applicability

(c) This AD applies to Bombardier Model CL-600-2B19 (Regional Jet Series 100 and 440) airplanes, certificated in any category, serial numbers (S/N) 7003 and subsequent.

Unsafe Condition

(d) This AD results from a report of defective electrical relays affecting emergency equipment. We are issuing this AD to prevent the malfunction of emergency equipment (the passenger oxygen system, the thrust reverse control system, and the auxiliary power unit (APU) fire detection, warning, and extinguishing system) during an emergency.

Compliance

(e) You are responsible for having the actions required by this AD performed within the compliance times specified, unless the actions have already been done.

Service Bulletin References

(f) The term “service bulletin,” as used in this AD, means the Accomplishment Instructions of Parts A through E of Bombardier Service Bulletin 601R-24-118, Revision A, dated August 8, 2005.

Relay Inspection

(g) Within 5,500 flight hours or 36 months after the effective date of this AD, whichever is first: Do an inspection of the manufacturer's date code on the K4WQ, K5WQ, K3QA, K4QA, K4WG, K1CN, and K2CN electrical relays, in accordance with the service bulletin, except as provided by paragraph (h) of this AD.

Alternative to Relay Inspection for Certain Airplanes

(h) For airplanes having S/Ns 7003 through 7363 inclusive, and 7889 and subsequent, which were not manufactured with the subject Leach TDH-series relays installed: A review of the airplane maintenance records is acceptable in lieu of the inspection of the manufacturer's date code on the K4WQ, K5WQ, K3QA, K4QA, K4WG, K1CN, and K2CN electrical relays, if the manufacturer's date code can be conclusively determined from that review.

Replacement of Identified Relays

(i) Prior to further flight after the inspection in paragraph (g) of this AD: Replace any electrical relay having a manufacturer's date code specified in paragraph 1.A., “Effectivity,” of the service bulletin that is identified during the inspection or maintenance records review specified in paragraph (g) or (h) of this AD with a serviceable relay, in accordance with the service bulletin.

Inspections and Replacements According to Previous Issue of Service Bulletin

(j) Inspecting and replacing the subject electrical relays is also acceptable for compliance with the requirements of paragraphs (g) and (i) of this AD, as applicable, if done before the effective date of this AD in accordance with Accomplishment Instructions of Parts A through E of Bombardier Service Bulletin 601R-24-118, dated January 3, 2005.

Parts Installation

(k) As of the effective date of this AD, no person may install a Leach TDH-series K4WQ, K5WQ, K3QA, K4QA, K4WG, K1CN, or K2CN relay with a manufacturer's date code specified in paragraph 1.A., “Effectivity,” of Bombardier Service Bulletin 601R-24-118, Revision A, dated August 8, 2005, on any airplane.

Alternative Methods of Compliance (AMOCs)

(l)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) Canadian airworthiness directive CF-2005-35, dated September 1, 2005, also addresses the subject of this AD.

Material Incorporated by Reference

(n) You must use Bombardier Service Bulletin 601R-24-118, Revision A, dated August 8, 2005, to perform the actions that are required by this AD, unless the AD specifies otherwise. The Director of the Federal Register approved the incorporation by reference of this document in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 25, 2006.
Kalene C. Yanamura,
Acting Manager, Transport Airplane Directorate, Aircraft Certification Service.

[FR Doc. 06-4311 Filed 5-11-06; 8:45 am]

BILLING CODE 4910-13-P